DEPARTMENT OF THE INTERIOR

Bureau of Indian Affairs

Indian Gaming

AGENCY: Bureau of Indian Affairs, Interior.

ACTION: Notice of approved Tribal-State compacts; correction.

SUMMARY: The Bureau of Indian Affairs published a notice in the Federal Register on May 16, 2000 (65 FR 31189), concerning a list of approved Tribal-State Compacts for the purpose of engaging in Class III gaming activities on Indian lands in the State of California. The list of California Indian Tribes contained an incorrect name for a particular Tribe.

Correction

In the Federal Register of May 16, 2000, in FR Doc. 00-12322, on page 31189, in the second column, correct the SUMMARY caption listing the tribes, specifically, the Santa Rosa Band of Cahuilla Mission Indians of the Santa Rosa Reservation to read: Santa Rosa Indian Community of the Santa Rosa Rancheria.

DATES: This action is effective May 31, 2000.

FOR FURTHER INFORMATION CONTACT: George T. Skibine, Director, Office of Indian Gaming Management, Bureau of Indian Affairs, Washington, DC 20240, (202) 219-4066.

Dated: May 18, 2000.
Kevin Gover,
Assistant Secretary—Indian Affairs.

[FR Doc. 00-13498 Filed 5-30-00; 8:45 am]

BILLING CODE 4310-02-P